DEPARTMENT OF COMMERCE

International Trade Administration

A-533-847

1-Hydroxyethylidene-1, 1-Diphosphonic Acid from India: Notice of Final Determination of Sales at Less Than Fair Value

AGENCY: Import Administration, International Trade Administration, Department of Commerce.

SUMMARY: The U.S. Department of Commerce (the Department) has determined that 1-hydroxyethylidene-1, 1-diphosphonic acid (HEDP) from India is being, or is likely to be, sold in the United States at less-than-fair-value (LTFV), as provided in section 735 of the Tariff Act of 1930, as amended (the Act). The estimated margins of sales at LTFV are listed in the “Continuation of Suspension of Liquidation” section of this notice.

EFFECTIVE DATE: March 11, 2009.

FOR FURTHER INFORMATION CONTACT: Brian Smith and Gemal Brangman, AD/CVD Operations, Office 2, Import Administration, International Trade Administration, U.S. Department of Commerce, 14th Street and Constitution Avenue, NW, Washington, DC 20230; telephone (202) 482-1766 and (202) 482-3773, respectively.

SUPPLEMENTARY INFORMATION:

Background

On October 21, 2008, the Department published in the Federal Register its preliminary determination in the antidumping duty investigation of HEDP from India. See 1-Hydroxyethylidene-1, 1-Diphosphonic Acid from the Republic of India and the People's Republic of China: Notice of Preliminary Determination of Sales at Less Than Fair Value and Postponement of Final Determination, 73 FR 62465 (October 21, 2008) (Preliminary Determination).

We conducted verification of the questionnaire responses submitted by Aquapharm Chemicals Private Limited (Aquapharm) in November 2008. See Memorandum to The File from Case Analysts entitled “Verification of the Questionnaire Responses of Aquapharm Chemicals Pvt. Ltd. (Aquapharm) in the Antidumping Duty Investigation of 1-Hydroxyethylidene-1, 1-Diphosphonic Acid (HEDP) from India,” dated January 13, 2009 (Verification Report). The verification report is on file and available in the Central Records Unit (CRU), Room 1117 of the Department's main building.

On January 26, 2009, Aquapharm and the petitioner submitted case briefs. On February 2, 2009, Aquapharm and the petitioner submitted rebuttal briefs. As neither party requested a hearing, a hearing was not held in this case.

Period of Investigation

The period of investigation (POI) is January 1, 2007, to December 31, 2007. This period corresponds to the four most recent fiscal quarters prior to the month of the filing of the petition.

Scope of Investigation

The merchandise covered by this investigation includes all grades of aqueous, acidic (non-neutralized) concentrations of 1-hydroxyethylidene-1, 1-diphosphonic acid¹, also referred to as hydroxethlylidenediphosphonic acid, hydroxyethanediphosphonic acid, acetodiphosphonic acid, and etidronic acid. The CAS (Chemical Abstract Service) registry number for HEDP is 2809-21-4. The merchandise subject to this investigation is currently classified in the Harmonized Tariff Schedule of the United States (HTSUS) at subheading 2931.00.9043. It may also enter under HTSUS subheading 2811.19.6090. While HTSUS subheadings are provided for convenience and customs purposes only, the written description of the scope of this investigation is dispositive.

¹ C2H8O7P2 or C(CH3)(OH)(PO3H2)2

Analysis of Comments Received

All issues raised in the case and rebuttal briefs by parties to this antidumping investigation are addressed in the “Issues and Decision Memorandum for the Final Determination in the Less-Than-Fair-Value Investigation of 1-Hydroxyethylidene-1, 1-Diphosphonic Acid from India” from John Andersen, Acting Deputy Assistant Secretary for Antidumping and Countervailing Duty Operations, to Ronald K. Lorentzen, Acting Assistant Secretary for Import Administration (Decision Memorandum), dated March 5, 2009, which is hereby adopted by this notice. A list of the issues which parties have raised and to which we have responded, all of which are in the Decision Memorandum, is attached to this notice as an appendix. Parties can find a complete discussion of all issues raised in this investigation and the corresponding recommendations in the Decision Memorandum, which is on file in the CRU. In addition, a complete version of the Decision Memorandum can be accessed directly on the Web at http://ia.ita.doc.gov/frn/. The paper copy and electronic version of the Decision Memorandum are identical in content.

Verification

As provided in section 782(i) of the Act, we verified the information submitted by Aquapharm for use in our final determination. We used standard verification procedures including an examination of relevant accounting and production records, and original source documents provided by Aquapharm. See Verification Report.

Final Determination Margins

Manufacturer/Exporter | Weighted-Average Margin (percent)
Aquapharm Chemicals Private Limited | 3.10
All Others | 3.10

We determine that the following weighted-average dumping margins exist for the period January 1, 2007, to December 31, 2007:

Disclosure

We will disclose the calculations performed within five days of the date of publication of this notice to parties in this proceeding in accordance with 19 CFR 351.224(b).

Continuation of Suspension of Liquidation

Pursuant to section 735(c)(1)(B) of the Act, we will instruct U.S. Customs and Border Protection (CBP) to continue to suspend liquidation of all entries of HEDP from India, entered, or withdrawn from warehouse, for consumption on or after October 21, 2008, the date of publication of the Preliminary Determination. We will instruct CBP to require a cash deposit or the posting of a bond equal to the weighted-average dumping margins, as indicated above and as follows: (1) the rate for Aquapharm will be 3.10 percent; (2) if the exporter is not a firm identified in this investigation, but the producer is, the rate will be the rate established for the producer of the subject merchandise; (3) the rate for all other producers or exporters will be 3.10 percent. These suspension of liquidation instructions will remain in effect until further notice.

International Trade Commission Notification

In accordance with section 735(d) of the Act, we have notified the International Trade Commission (ITC) of our final determination. As our final determination is affirmative, in accordance with section 735(b)(2) of the Act, the ITC will determine, within 45 days, whether the domestic industry in the United States is materially injured, or threatened with material injury, by reason of imports or sales (or the likelihood of sales) for importation of the subject merchandise. If the ITC determines that material injury or threat of material injury does not exist, the proceeding will be terminated and all securities posted will be refunded or canceled. See section 735(c)(2) of the Act. If the ITC determines that such injury does exist, the Department will issue an antidumping duty order directing CBP to assess antidumping duties on all imports of the subject merchandise entered, or withdrawn from warehouse, for consumption on or after the effective date of the suspension of liquidation.

Notification Regarding APO

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

This determination is issued and published pursuant to sections 735(d) and 777(i)(1) of the Act.

Dated: March 5, 2009.
Ronald K. Lorentzen,
Acting Assistant Secretary for Import Administration.

Appendix Issues in Decision Memorandum

1. U.S. Date of Sale

2. U.S. Sales Type Designation

3. Level of Trade

4. U.S. Credit Expenses and Inventory Carrying Costs

5. Verification Corrections

[FR Doc. E9-5231 Filed 3-10-09; 8:45 am]

BILLING CODE: 3510-DS-S